DEPARTMENT OF ENERGY

Federal Energy Regulatory Commission

[Docket No. CP11-124-000]

Port Barre Investments, L.L.C.; Notice of Application

Take notice that on March 4, 2011, Port Barre Investments, L.L.C. (Bobcat) filed in Docket No. CP11-124-000 an application pursuant to section 7(c) of the Natural Gas Act and Part 157 the Commission's Rules and Regulations for all the necessary authorizations required to amend the certificate of public convenience and necessity issued in Docket No. CP09-19-000 ¹, as amended by the certificate issued in Docket No. CP10-30-000.² In these proceedings, the Commission authorized Bobcat to expand its storage facility through the construction and operation of three new salt dome natural gas storage caverns, additional compression, and new pipeline facilities.

¹ Port Barre Investments, L.L.C., 126 FERC ¶ 61,240 (2009).

² Port Barre Investments, L.L.C., 130 FERC ¶ 62,272 (2010).

In this application, Bobcat proposes to relocate the surface and bottom hole locations of Cavern Well 4, an injection/withdrawal well related to Cavern No. 4, and to reconfigure certain well casing and hanging string components. The activities requested will not alter the previously approved capacities, deliverability or injection rates of the Bobcat Storage Facility. The details of the request are more fully set forth in the application, which is on file with the Commission and open to public inspection. This filing may also be viewed on the Web at http://www.ferc.gov using the “eLibrary” link. Enter the docket number excluding the last three digits in the docket number field to access the document. For assistance, contact FERC at FERCOnlineSupport@ferc.gov or call toll-free, (886) 208-3676 or TTY, (202) 502-8659.

Any questions regarding this application should be directed to Lisa A. Connolly, General Manager, Rates and Certificates, Bobcat Gas Storage, P.O. Box 1642, Houston, TX 77251-1642, phone (713) 627-4102, e-mail laconnolly@spectraenergy.com.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission strongly encourages electronic filings of comments, protests, and interventions via the Internet in lieu of paper. See 18 CFR 385.2001(a)(1)(iii) and the instructions on the Commission's Web site (http://www.ferc.gov) under the “e-Filing” link. Persons unable to file electronically should submit an original and 14 copies of the protest or intervention to the Federal Energy Regulatory Commission, 888 First Street, NE., Washington, DC 20426.

Comment Date: March 24, 2011.

Dated: March 10, 2011.
Kimberly D. Bose,
Secretary.

[FR Doc. 2011-6197 Filed 3-16-11; 8:45 am]

BILLING CODE 6717-01-P